DEPARTMENT OF ENERGY

Environmental Management Site-Specific Advisory Board, Northern New Mexico

AGENCY: Department of Energy.

ACTION: Notice of open meeting and retreat.

SUMMARY: This notice announces a meeting of the Environmental Management Site-Specific Advisory Board (EMSSAB), Northern New Mexico. The Federal Advisory Committee Act (Pub. L. No. 92-463, 86 Stat. 770) requires that public notice of this meeting be announced in the Federal Register.

DATES: Friday, May 20, 2005, 8 a.m.-5 p.m.; Saturday, May 21, 2005, 9 a.m.-12 p.m.

ADDRESSES: Sagebrush Inn and Conference Center, 1508 Paseo Del Pueblo Sur, Taos, New Mexico 87571.

FOR FURTHER INFORMATION CONTACT: Menice Manzanares, Northern New Mexico Citizens' Advisory Board, 1660 Old Pecos Trail, Suite B, Santa Fe, NM 87505. Phone (505) 995-0393; Fax (505) 989-1752 or e-mail: mmanzanares@doeal.gov.

SUPPLEMENTARY INFORMATION: Purpose of the Board: The purpose of the Board is to make recommendations to DOE in the areas of environmental restoration, waste management, and related activities.

Tentative Agenda for Retreat

Friday, May 20, 2005

8 a.m.—Background and History of the Los Alamos National Laboratory and View The Manhattan Project.

10 a.m.—Break.

10:15 a.m.—Round Robin—Board Member Ice Breaker.

11 a.m.—Interaction with Ex-Officio Agencies—Issues for Consideration in FY 2006.

12 p.m.—Lunch.

1:30 p.m.—Break-out Sessions by Committee.

A. Review FY 2005 Work Plan Accomplishments.

B. Begin FY 2006 Work Plan.

3 p.m.—Break.

3:15 p.m.—Complete FY 2006 Work Plans and present to full Board.

5 p.m.—Adjourn.

Tentative Agenda for Open Meeting

Saturday, May 21, 2005

9 a.m.—Call to Order by Ted Taylor, Deputy Designated Federal Officer (DDFO).

Establishment of a Quorum.

Welcome and Introductions by Chairman, Tim DeLong.

Approval of Agenda.

Approval of Minutes of March 30, 2005 Meeting.

9:15 a.m.—Board Business.

A. Report from Chairman, Tim DeLong.

• Site-Specific Advisory Board (SSAB) Chairs' Meeting at Savannah River Site.

B. Report from Department of Energy, Ted Taylor, DDFO.

C. Report from Executive Director, Menice S. Manzanares.

D. New Business.

10 a.m.—Public Comment.

10:15 a.m.—Reports.

A. Waste Management Committee, Jim Brannon.

• Report on Area G Forum.

B. Environmental Monitoring, Surveillance and Remediation Committee, Chris Timm.

C. Community Involvement Committee, Grace Perez.

D. Comments from Ex-Officio Members.

11 a.m.—Break.

11:15 a.m.—Consideration and Action on Recommendation 2005-5, EPA National Air and Radiation Environmental Laboratory Plans for a National Monitoring System, Chris Timm.

Consideration and Action on Recommendation 2005-6, Regarding the Los Alamos National Laboratory's Environmental Surveillance Report (Executive Summary), Grace Perez.

11:45 a.m.—“Thank You” to Retiring Board Members.

11:50 a.m.—Comments from Board Members and Ex-Officio Members.

11:55 a.m.—Recap of Meeting: Issuance of Press Releases, Editorials, etc.

12 p.m.—Adjourn

This agenda is subject to change at least one day in advance of the meeting.

Public Participation: The meeting is open to the public. Written statements may be filed with the Board either before or after the meeting. Individuals who wish to make oral statements pertaining to agenda items should contact Menice Manzanares at the address or telephone number listed above. Requests must be received five days prior to the meeting and reasonable provision will be made to include the presentation in the agenda. The Deputy Designated Federal Officer is empowered to conduct the meeting in a fashion that will facilitate the orderly conduct of business. Individuals wishing to make public comment will be provided a maximum of five minutes to present their comments.

Minutes: Minutes of this meeting will be available for public review and copying at the Freedom of Information Public Reading Room, 1E-190, Forrestal Building, 1000 Independence Avenue, SW., Washington, DC 20585 between 9 a.m. and 4 p.m., Monday-Friday, except Federal holidays. Minutes will also be available at the Public Reading Room located at the Board's office at 1660 Old Pecos Trail, Suite B, Santa Fe, NM. Hours of operation for the Public Reading Room are 9 a.m.-4 p.m. on Monday through Friday. Minutes will also be made available by writing or calling Menice Manzanares at the Board's office address or telephone number listed above. Minutes and other Board documents are on the Internet at: http://www.nnmcab.org.

Issued at Washington, DC on April 19, 2005.
Rachel M. Samuel,
Deputy Advisory Committee Management Officer.

[FR Doc. 05-8199 Filed 4-22-05; 8:45 am]

BILLING CODE 6405-01-P